NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection.

NSF issued a permit (ACA 2018-024) to Joseph A. Covi on December 15, 2017. The issued permit allows the permit holder to enter Antarctic Specially Protected Areas (ASPAs). The permit holder and agents are permitted to enter ASPA 125, Fildes Peninsula; ASPA 132, Potter Peninsula; ASPA 150, Ardley Island, Maxwell Bay; and ASPA 171 Narebski Point, Barton Peninsula for the purposes of collecting small sediment samples from freshwater lakes and ephemeral ponds. The permit holder and agents are required to adhere to the management plans for each of the ASPAs that they enter. The permit is set to expire on March 1, 2019.

Now the permit holder proposes a permit modification to extend the expiration date to March 15, 2019. The Environmental Officer has reviewed the modification request and has determined that the amendment is not a material change to the permit, and it will have a less than a minor or transitory impact.

Dates of Permitted Activities: January 23, 2018-March 15, 2019.

The permit modification was issued on October 23, 2018.

Nadene Kennedy,
Polar Coordination Specialist, Office of Polar Programs.

[FR Doc. 2018-24136 Filed 11-2-18; 8:45 am]

BILLING CODE 7555-01-P